DEPARTMENT OF LABOR

Employment and Training Administration

Investigations Regarding Certifications of Eligibility to Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 4, 2001.

Interested persons are invited to submit written comments regarding the subject matter of the investigations to the Director, Division of Trade Adjustment Assistance, at the address shown below, not later than June 4, 2001.

The petitions filed in this case are available for inspection at the Office of the Director, Division of Trade Adjustment Assistance, Employment and Training Administration, U.S. Department of Labor, Room C-5311, 200 Constitution Avenue, NW., Washington, DC 20210.

Signed at Washington, DC this 23rd day of April, 2001.
Edward A. Tomchick,
Director, Division of Trade Adjustment Assistance.

Appendix

Petitions Instituted On 04/23/2001
TA-W | Subject firm (petitioners) | Location | Date of petition | Product(s)
39,067 | Thomas Saginaw Ball (UAW) | Saginaw, MI | 04/03/2001 | Linear actuators.
39,068 | Elizabeth Webbing Mills (Co.) | Central Falls, RI | 04/09/2001 | Polyester and nylon webbing.
39,069 | Rosboro Lumber Co. (Wkrs) | Springfield, OR | 04/06/2001 | Softwood dimensional lumber.
39,070 | Eagle Knitting Mills (UNITE) | Shawano, WI | 02/16/2001 | Cut and sew apparel.
39,071 | H.H. Fessler Knitting (Wkrs) | Shoemakersville, PA | 04/06/2001 | Ladies' apparel.
39,072A | Fayette Enterprises (Co) | Fayette, MS | 04/05/2001 | Occasional tables.
39,072 | Thomasville Furniture Ind (Co.) | Johnson City, TN | 04/05/2001 | Occasional tables.
39,073 | Pen Tab—Stuart Hall (PACE) | Kansas City, MO | 03/29/2001 | Paper commodities, school supplies.
39,074 | Chief Wenatchee, Inc (Co.) | Wenatchee, WA | 04/03/2001 | Apples.
39,075 | Irving Tanning Co. (Co.) | Hartland, ME | 04/09/2001 | Finished leather.
39,076 | Republic Technologies (USWA) | Lorain, OR | 03/21/2001 | Steel bars.
39,077 | Nucor Bearing Products (Wkrs) | Wilson, NC | 04/06/2001 | Bearing components.
39,078 | Agilant Technologies (Wkrs) | Rockaway, NJ | 04/05/2001 | Power supplies.
39,079 | Glenmore Plastic (UNITE) | Brooklyn, NY | 03/30/2001 | Printing and plastic.
39,080 | Aur Resources (Co.) | Sparks, NB | 03/24/2001 | Mining and metal exploration.
39,081 | Bassett Furniture Ind. (Co.) | Basset, VA | 04/02/2001 | Household wood furniture.
39,082 | Birmingham Steel (USWA) | Joliet, IL | 04/03/2001 | Flats, rounds, and squares.
39,083 | Crystal Springs Apparel (Wkrs) | Crystal Springs, MS | 03/28/2001 | Men's shirts.
39,084 | Consolidated Auto Screen (Wkrs) | Woonsocket, RI | 04/04/2001 | Printed materials.
39,085 | Samuel Bent LLC (Wkrs) | Gardner, MA | 04/04/2001 | Wooden chairs and tables.
39,086 | Dunbrooke Industries (Co.) | Lexington, MO | 03/06/2001 | Outerwear jackets.
39,087 | John Roberts, Inc. (Co.) | New York City, NY | 04/03/2001 | Ladies' dresses.
39,088 | WSW of Sharon (Wkrs) | Sharon, TN | 03/01/2001 | Children's sleepwear.
39,089 | Custom Machine (Wkrs) | Great Bend, PA | 03/29/2001 | Pullies, shafts and machine parts.
39,090 | Standflex (IAM) | Oriskany, NY | 04/04/2001 | Galvanized steel.
39,091 | Heraeus Electro Nite (IBT) | Philadelphia, PA | 03/28/2001 | Thermocouples, heating devices.
39,092 | Fountaine International (Co.) | Rocky Mount, NC | 04/05/2001 | Fifth wheels assemblies.
39,093 | Wulfrath Refractories (USWA) | Tarentum, PA | 04/10/2001 | Dolomitic refractory products.
39,094 | Antech (Wkrs) | El Paso, TX | 03/28/2001 | Generators, power machines.
39,095 | Hammond and Associates (Co.) | Lexington, AL | 04/02/2001 | Tee shirts.
39,096 | GMW Logging (Wkrs) | Central Point, OR | 04/06/2001 | Timber, logs.
39,097 | Vastar Resource, Inc. (Wkrs) | Carthage, TX | 04/09/2001 | Crude oil.
39,098 | Seal Glove Manufacturing (Co.) | Millensburg, PA | 04/04/2001 | Industrial work gloves.
39,099 | ABC Rail (USWA) | Calena, AL | 04/07/2001 | Rail road wheels.
39,100 | Paper Converting Machine (UAW) | Green Bay, WI | 04/04/2001 | Paper converting machinery.
39,101 | Eureka Company (The) (Co.) | El Paso, TX | 04/03/2001 | Upright vacuum cleaners.
39,102 | Boy Harness Co. (Co.) | Osceola, IA | 04/09/2001 | Gun cases and luggage.
39,103 | Sierra Pine Ltd (IAM) | Springfield, OR | 04/11/2001 | Particleboard.
39,104 | Alexander Doll Co. (AITNWA) | New York, NY | 04/09/2001 | Porcelain dolls & doll accessories.
39,105 | Exide Technologies (Co.) | Dunmore, PA | 04/05/2001 | Automotive batters.
39,106 | Manpower Employment Serv. (Wkrs) | Fairfield, IA | 04/09/2001 | Provide temp. employees.

[FR Doc. 01-13003 Filed 5-22-01; 8:45 am]

BILLING CODE 4510-30-M